DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub.L. 92-463), the Centers for Disease Control and Prevention (CDC) announces the following Federal advisory committee meetings.

Name: National Vaccine Advisory Committee (NVAC).

Times and Dates: 9 a.m.-2:15 p.m., February 13, 2001. 8:30 a.m.-2:45 p.m., February 14, 2001.

Place: Hubert H. Humphrey Building, Room 505A, 200 Independence Avenue, SW, Washington, DC 20201.

Status: Open to the public, limited only by the space available.

Notice: In the interest of security, the Department has instituted stringent procedures for entrance to the Hubert H. Humphrey Building by non-government employees. Thus, persons without a government identification card should plan to arrive at the building each day either between 8:00 a.m. and 8:30 a.m. or 12:30 p.m. and 1:00 p.m. Entrance to the meeting at other times during the day cannot be assured.

Purpose: This committee advises and makes recommendations to the Director of the National Vaccine Program on matters related to the Program responsibilities.

Matters to be Discussed: Agenda items will include: a report from the National Vaccine Program Office (NVPO) and the Interagency Vaccine Workgroup; a report on the cytomegalovirus vaccine (CMV) meeting; discussions on influenza vaccine supply and delay; pandemic influenza preparedness; NVAC Polio Containment Workgroup report; Vaccine Safety and Communication Subcommittee report; Immunization Coverage Subcommittee report; Future Vaccines Subcommittee report; update from the Office of the Assistant Secretary for Health and Surgeon General; a report on the Global Immunization Initiative; ACCV Annual Report, VRPBC Highlights, and ACIP Highlights; an update on the NVAC Mandatory Immunization Requirements Workgroup and a report of the Introduction of New Vaccines Workgroup.

Name: Subcommittee on Future Vaccines.

Time and Date: 2:15 p.m.-5 p.m., February 13, 2001.

Place: Hubert H. Humphrey Building, Room 305A, 200 Independence Avenue, SW, Washington, DC 20201.

Status: Open to the public, limited only by the space available.

Purpose: This subcommittee develops policy options and guides national activities that lead to accelerated development, licensure, and the best use of new vaccines in the simplest possible immunization schedules.

Matters to be Discussed: Agenda items will include discussions on new National Institute of Health data on rotavirus and intussusception and future actions regarding CMV based on results of the National Vaccine Advisory Committee sponsored meeting.

Name: Subcommittee on Immunization Coverage.

Time and Date: 2:15 p.m.-5 p.m., February 13, 2001.

Place: Hubert H. Humphrey Building, Room 505A, 200 Independence Avenue, SW, Washington, DC 20201.

Status: Open to the public, limited only by the space available.

Purpose: This subcommittee will identify and propose solutions that provide a multifaceted and holistic approach to reducing barriers that result in low immunization coverage for children.

Matters to be Discussed: Agenda items will include discussions on adult immunization standards; Pediatric immunization standards; an update on the Introduction of New Vaccines Workgroup; an update on the Mandatory Immunization Guidelines Workgroup; an update on Immunization Registries Progress Report; discussion of areas of focus for unmet needs funding; an update on the Strategies to Sustain Success Blue Ribbon Panel; and future dates for interim Subcommittee meetings.

Name: Subcommittee on Vaccine Safety and Communication.

Time and Date: 2:15 p.m.-5 p.m., February 13, 2001.

Place: Hubert H. Humphrey Building, Room 325A, 200 Independence Avenue, SW, Washington, DC 20201.

Status: Open to the public, limited only by the space available.

Purpose: This subcommittee reviews issues relevant to vaccine safety and adverse reactions to vaccines.

Matters to be Discussed: Review of the Executive Summary of the NVAC Risk Communication Workshop; a discussion of the Subcommittee's relationship with IOM; and, discussion of new business.

Agenda items are subject to change as priorities dictate.

Contact Person for More Information: Gloria Sagar, Committee Management Specialist, NVPO, CDC, 1600 Clifton Road, NE, M/S D-66, Atlanta, Georgia 30333, telephone 404/687-6672.

Dated: January 18, 2001.
Carolyn J. Russell,
Director, Management Analysis and Services Office, Centers for Disease Control and Prevention.

[FR Doc. 01-2108 Filed 1-23-01; 8:45 am]

BILLING CODE 4163-18-P